DEPARTMENT OF AGRICULTURE

Privacy Act of 1974; System of Records

AGENCY: Department of Agriculture (USDA), Food and Nutrition Service (FNS).

ACTION: Notice of a new system of records.

SUMMARY: Pursuant to the provisions of the Privacy Act of 1974 and Office of Management and Budget (OMB) Circular No. A-108, notice is hereby given that the United States Department of Agriculture (USDA) proposes to create a new system of records (SOR) entitled USDA/FNS-15, “National Supplemental Nutrition Assistance Program (SNAP) Information Database.” This system is owned, administered, and secured by the Food and Nutrition Service (FNS). The primary purposes of this system are to validate the accuracy of eligibility determinations and strengthen SNAP and government program integrity.

DATES: In accordance with 5 U.S.C. 552a(e)(4) and (11), this system of records notice will become effective upon publication in the Federal Register, except for the routine uses, which will become effective on July 23, 2025, unless USDA determines they must be changed as a result of public comment. USDA will publish any changes to the system of records notice resulting from public comment.

ADDRESSES: Interested parties may submit written comments by one of the following methods:

• Preferred: Federal eRulemaking Portal at http://www.regulations.gov provides the ability to type short comments directly into the comment field on this web page or attach a file for lengthier comments. Follow the online instructions at that site for submitting comments.

• By email: [Insert email contact]

• By mail: [Insert mail contact], FNS, 1320 Braddock Place, Alexandria, VA 22314.

Instructions: All comment submissions must include the agency name and docket number for this rulemaking. All comments received will be posted without change to http://www.regulations.gov, including any personal information provided. However, comments containing profanity or inappropriate or abusive content may be rejected or redacted before posting.

Docket: For access to the docket to read background documents or comments received go to http://www.regulations.gov.

FOR FURTHER INFORMATION CONTACT: For general questions, please contact: FNS Privacy Officer, Information Management Branch, Food and Nutrition Service, USDA, 1320 Braddock Pl, Alexandria, Virginia 22314; or via email at SM.fn.Privacy-FNS@usda.gov.

SUPPLEMENTARY INFORMATION:

Background

Pursuant to, among other authorities, 7 U.S.C. 2020(a)(3) and (e)(8)(A) and 7 CFR 272.1(c)(1) and (e), FNS will work with all State agencies and their designated vendors and/or contractors to transmit data on SNAP participants and transactions for the purposes listed below. This system is consistent with and effectuates multiple executive orders, including but not limited to Executive Order 14243 of March 20, 2025, Stopping Waste, Fraud, and Abuse by Eliminating Information Silos and Executive Order 14218 of February 19, 2025, Ending Taxpayer Subsidization of Open Borders.

USDA and FNS will use the SNAP data in this system to ensure the integrity of Government programs, including by verifying SNAP recipient eligibility against federally maintained databases, identifying and eliminating duplicate enrollments, and performing additional eligibility and program integrity checks specified herein.

The system of records notice explains how the records within the new system will be used and with whom they will be shared.

Privacy Act

The Privacy Act of 1974 (the Privacy Act), 5 U.S.C. 552a, embodies fair information principles in a statutory framework governing the means by which the United States Government collects, maintains, uses, and disseminates records about individuals. The Privacy Act applies to information that is maintained in a SOR. A SOR is a group of any records under the control of an agency for which information is retrieved by the name of an individual or by some identifying number, symbol, or other identifying particular assigned to the individual. In the Privacy Act, an individual is defined to encompass United States citizens and lawful permanent residents.

The Privacy Act requires each agency to publish in the Federal Register a description denoting the type and character of each SOR that the agency maintains, to publish the routine uses that are contained in each system in order to make agency record keeping practices transparent, and to notify individuals regarding the uses and locations of their records.

In accordance with 5 U.S.C. 552a(r), USDA has provided a report of this SOR to the Office of Management and Budget and to the relevant committees of Congress.

SYSTEM NAME AND NUMBER:

USDA/FNS-15, National SNAP Information Database.

SECURITY CLASSIFICATION:

Unclassified.

SYSTEM LOCATION:

The National SNAP Information Database is maintained in the FNS Amazon Web Service (AWS) cloud infrastructure environment that is used only by Federal employees and contractors. The data is processed and stored solely within the continental United States. The agency, U.S. Department of Agriculture, address is 1400 Independence Ave. SW, Washington, DC 20250 and the address of the third-party service provider is Microsoft, 1 Microsoft Way, Redmond, Washington 98052-6399.

SYSTEM MANAGER(S):

Director, Portfolio Management Division, Office of Information Technology, Food and Nutrition Service, 1320 Braddock Road, Alexandria, Virginia 22314. Telephone: (703) 305-2504.

AUTHORITY FOR MAINTENANCE OF THE SYSTEM:

7 U.S.C. 2020(a)(3) and (e)(8)(A); 7 CFR 272.1(c)(1) and (e); Executive Order (E.O.) 14243; Executive Order 14218.

PURPOSE(S) OF THE SYSTEM:

USDA will use the SNAP data to ensure the integrity of Government programs, including by verifying SNAP recipient eligibility against federally maintained databases. This is consistent with USDA's statutory authority and will ensure Americans in need receive assistance, while at the same time safeguarding taxpayer dollars from abuse. USDA will leverage data-sharing across Federal and State systems to identify and rectify any ineligible, duplicate, or fraudulent SNAP enrollments or transactions. This includes verifying eligibility based on immigration status, identifying and eliminating duplicate enrollments, assisting States in mitigating identity theft, and performing other eligibility and program integrity checks using lawfully shared internal and interagency data. This also includes sharing, where permitted by law and consistent with this notice, information with State agencies when necessary to investigate and rectify fraudulent or otherwise improper or illegal SNAP enrollments or transactions.

CATEGORIES OF INDIVIDUALS COVERED BY THE SYSTEM:

Individuals who have received, are currently receiving, or have applied to receive SNAP benefits.

CATEGORIES OF RECORDS IN THE SYSTEM:

The system consists of records containing personally identifying information, including but not limited to SNAP participant name, Social Security Number (SSN), date of birth (DOB), residential address, Electronic Benefit Transaction (EBT) card number, and case record identifier number or other identifiers or data elements maintained by States, vendors, or contractors to identify SNAP recipients. The system also consists of information derived from and associated with EBT transactions, including but not limited to records sufficient to calculate the total dollar value of SNAP benefits received by participants over time, such as applied amounts and benefit available dates.

RECORD SOURCE CATEGORIES:

Information in this system is provided by the 53 State agencies that administer SNAP and their designated vendors and/or contractors. Information in this system is also provided by other Federal agencies with which USDA partners on program integrity efforts.

ROUTINE USES OF RECORDS MAINTAINED IN THE SYSTEM, INCLUDING CATEGORIES OF USERS AND PURPOSES OF SUCH USES:

Records created or stored in this system may be disclosed pursuant to the permitted routine uses outlined below to the extent such uses are authorized by, among other authorities, 7 U.S.C. 2020(a)(3) and (e)(8), 7 CFR 272.1(c)(1) and (e), and Executive Orders 14218 and 14243.

(1) To the Department of Justice or in a proceeding before a court or adjudicative body when: (a) USDA/FNS or any component thereof; or (b) any employee of USDA in his or her official capacity, or any employee of the agency in his or her individual capacity where the Department of Justice has agreed to represent the employee; or (c) the United States Government, is a party to litigation or has an interest in such litigation, and USDA determines that the records are both relevant and necessary to the litigation and the use of such records by the Department of Justice is deemed by USDA to be for a purpose that is compatible with the purpose for which USDA collected the records.

(2) In an appropriate proceeding before a court, grand jury, or administrative or adjudicative body or official, when the USDA/FNS or other Agency representing the USDA, determines that the records are both relevant and necessary to the proceeding; or in an appropriate proceeding before an administrative or adjudicative body when the adjudicator determines the records to be relevant and necessary to the proceeding.

(3) To a Member of Congress or to a Congressional staff member in response to an inquiry of the Congressional office made at the request of, and on behalf of, the individual about whom the record is maintained.

(4) To the National Archives and Records Administration or other Federal government agencies pursuant to records management activities being conducted under 44 U.S.C. 2904 and 2906.

(5) To another Federal agency or Federal entity, when USDA/FNS determines that information from this system of records is reasonably necessary to assist the recipient agency or entity in: (1) responding to a suspected or confirmed breach or (2) preventing, minimizing, or remedying the risk of harm to individuals, the recipient agency or entity (including its information systems, programs, and operations), the Federal Government, or national security, resulting from a suspected or confirmed breach.

(6) To appropriate agencies, entities, and persons when: (1) USDA/FNS suspects or has confirmed that there has been a breach of the system of records; (2) USDA/FNS has determined that as a result of the suspected or confirmed breach there is a risk of harm to individuals, USDA (including its information systems, programs, and operations), the Federal Government, or national security; and (3) the disclosure made to such agencies, entities, and persons is reasonably necessary to assist in connection with USDA's efforts to respond to the suspected or confirmed breach or to prevent, minimize, or remedy such harm.

(7) To contractors, grantees, experts, consultants, and the agents thereof, and others performing or working on a contract, service, grant, cooperative agreement, or other assignment for USDA, when necessary to accomplish an agency function related to this system of records. USDA and FNS will require individuals provided information under this routine use to comply with all applicable requirements and limitations of disclosure imposed by the Privacy Act.

(8) When a record on its face, or in conjunction with other records, indicates a violation or potential violation of law, whether civil, criminal or regulatory in nature, and whether arising by general statute or particular program statute, or by regulation, rule, or order issued pursuant thereto, USDA/FNS may disclose the record to the appropriate agency, whether Federal, foreign, State, local, or tribal, or other public authority responsible for enforcing, investigating, or prosecuting such violation or charged with enforcing or implementing the statute, or rule, regulation, or order issued pursuant thereto, if the information disclosed is relevant to any enforcement, regulatory, investigative or prosecutive responsibility of the receiving entity.

(9) To Federal and State Agencies responsible for: (1) the administration of SNAP; or (2) the administration of other Federal benefits programs to the extent permitted by applicable law when such information is necessary for the performance of lawful audit, oversight, or administrative functions.

(10) To the U.S. Department of the Treasury when disclosure of the information is relevant and necessary to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

(11) To support another Federal agency or to an instrumentality of any governmental jurisdiction within or under the control of the United States (including any State or local governmental agency), that administers, or that has the authority to investigate or assist USDA to investigate potential fraud, waste, or abuse in, a Federal benefits program funded in whole or in part by Federal funds, when disclosure is deemed reasonably necessary by USDA to prevent, deter, discover, detect, investigate, examine, prosecute, sue with respect to, defend against, correct, remedy, or otherwise combat fraud, waste, or abuse in such programs.

POLICIES AND PRACTICES FOR STORAGE OF RECORDS:

The National SNAP Information Database will be hosted in the FNS AWS Cloud infrastructure environment, which is FedRAMP certified. These records are electronic.

POLICIES AND PRACTICES FOR RETRIEVAL OF RECORDS:

Records may be indexed and retrieved by the name of the individual, SSN, EBT card number, case record identifier number, or any other identifier or data element used by any State, vendor, or contractor to identify SNAP recipients.

POLICIES AND PRACTICES FOR RETENTION AND DISPOSAL OF RECORDS:

Records are retained and disposed of in accordance with Section 11(a)(3)(B) of the FNA. Records may be retained for a period of not less than 3 years as specified in the FNA or applicable regulation, or for a longer period as required by litigation, investigation, and/or audit. Electronic records are retained by FNS employees and contractors at FNS offices. This system does not yet have a NARA-approved records schedule. All records in this system will be kept indefinitely unless otherwise required by law until NARA has approved a records schedule for this system.

ADMINISTRATIVE, TECHNICAL, AND PHYSICAL SAFEGUARDS:

Administrative Safeguards: The USDA safeguards records in this system according to applicable rules and policies, including all applicable USDA automated systems security and access policies. USDA has imposed strict controls to minimize the risk of compromising information in the system. Access to the computer system containing the records in this system is limited to those individuals who have a need to know the information for the performance of their official duties and who have appropriate clearances or permissions. Access is controlled through USDA eAuthentication service.

Technical Safeguards: The National SNAP Information Database will utilize a robust collection of technical safeguards to ensure the integrity of the platform. The National SNAP Information Database is designed to meet all technical safeguards required by its system categorization in National Institute of Standards and Technology (NIST) 800-53. The National SNAP Information Database will be hosted in a secure environment that uses perimeter security protection to prevent interference or access from outside intruders. When accessing the National SNAP Information Database, Secure Socket Layer (SSL)/Transport Layer Security (TLS) technology protects the user's information by using both server authentication and data encryption. Users will only access the National SNAP Information Database by USDA eAuthentication through Personal Identity Verification (PIV) Card and Personal Identification Number (PIN) entry or Login.gov. The National SNAP Information Database administrators will have a suite of security tools that can be used to increase the security of the system.

Physical Safeguards: The servers that host the National SNAP Information Database are stored in a USDA FedRAMP authorized data center with strict physical access control procedures in place to prevent unauthorized access.

RECORD ACCESS PROCEDURES:

Personal information contained in this system is provided by the State agency, or such agency's designated vendors and/or contractors, in the State where the individual is a SNAP participant or applicant. An individual may obtain information about a record in the system which pertains to the individual by submitting a written request to the systems manager listed above via letter or online at https://efoia-pal.usda.gov/. If by mail, the letter should be marked “Privacy Act Request.” Requests should include the name of the individual making the request, the name of the system of records, any other information specified in the system notice, and a statement of whether the requester desires to be supplied with copies by mail or electronically. Individuals may also directly contact the applicable State agency or local SNAP office. A request for information pertaining to an individual should contain the name, address, date of birth, and SSN of the individual, and any other information that will assist in locating the record.

CONTESTING RECORD PROCEDURES:

Individuals desiring to contest or amend information maintained in the system should direct their request to the system manager listed above or to the State agency or designated vendor/contractor that provided the data. The request should identify each record in question, state the amendment or correction desired, and state why the individual believes that the record is not accurate, relevant, timely, or complete. The individual may submit any documentation that would be helpful. Where consistent with the Privacy Act and this notice, requests sent to the system manager will be shared with the State agency in the State where the individual is a SNAP participant or applicant for resolution. Requests must follow the procedures set forth in 7 CFR 1.116 (Request for correction or amendment to record).

NOTIFICATION PROCEDURES:

Any individual may request information regarding this system of records, or information as to whether the system contains records pertaining to the individual, from the System Manager listed above: See RECORD ACCESS PROCEDURES.

EXEMPTIONS PROMULGATED FOR THE SYSTEM:

None.

HISTORY:

None.

James C. Miller,
Administrator.

[FR Doc. 2025-11463 Filed 6-20-25; 8:45 am]

BILLING CODE 3410-30-P